DEPARTMENT OF ENERGY

Federal Energy Regulatory Commission

Combined Notice of Filings #1

Take notice that the Commission received the following electric corporate filings:

Docket Numbers: EC15-18-000.

Applicants: Perigee Energy, LLC, Great American Power, LLC.

Description: Joint Application of Perigee Energy, LLC and Great American Power, LLC for Authorization under Section 203 of the Federal Power Act.

Filed Date: 10/28/14.

Accession Number: 20141028-5183.

Comments Due: 5 p.m. ET 11/18/14.

Take notice that the Commission received the following electric rate filings:

Docket Numbers: ER14-2262-001.

Applicants: Edgewood Energy, LLC.

Description: Compliance filing per 35: J-POWER Supplement to MBR Update in Docket Nos. ER14-2262 & ER14-2263, et al to be effective 10/30/2014.

Filed Date: 10/29/14.

Accession Number: 20141029-5023.

Comments Due: 5 p.m. ET 11/19/14.

Docket Numbers: ER14-2263-001.

Applicants: Shoreham Energy, LLC.

Description: Compliance filing per 35: J-POWER Supplement to MBR Update in Docket Nos. ER14-2262 & ER14-2263, et al to be effective 10/30/2014.

Filed Date: 10/29/14.

Accession Number: 20141029-5024.

Comments Due: 5 p.m. ET 11/19/14.

Docket Numbers: ER14-2591-001.

Applicants: Florida Power & Light Company.

Description: Compliance filing per 35: Florida Power & Light Co.'s Compliance Filing to Order No. 792 & 792-A Errata to be effective 8/4/2014.

Filed Date: 10/28/14.

Accession Number: 20141028-5161.

Comments Due: 5 p.m. ET 11/18/14.

Docket Numbers: ER14-2604-001.

Applicants: Deseret Generation & Transmission Co-operative, Inc.

Description: Compliance filing per 35: OATT Order No. 792 Compliance Filing Revised to be effective 8/3/2014.

Filed Date: 10/28/14.

Accession Number: 20141028-5112.

Comments Due: 5 p.m. ET 11/18/14.

Docket Numbers: ER14-2721-001.

Applicants: Peetz Logan Interconnect, LLC.

Description: Compliance filing per 35: Peetz Logan Interconnect, LLC Order No. 792 and 792-A Errata Compliance Filing to be effective 8/4/2014.

Filed Date: 10/28/14.

Accession Number: 20141028-5164.

Comments Due: 5 p.m. ET 11/18/14.

Docket Numbers: ER14-2722-001.

Applicants: Sagebrush, a California partnership.

Description: Compliance filing per 35: Sagebrush, a California partnership Order No. 792 and 792-A Errata Comp Filing to be effective 8/4/2014.

Filed Date: 10/28/14.

Accession Number: 20141028-5163.

Comments Due: 5 p.m. ET 11/18/14.

Docket Numbers: ER14-2723-001.

Applicants: Sky River LLC.

Description: Compliance filing per 35: Sky River LLC Order No. 792 and 792-A Errata Compliance Filing to be effective 8/4/2014.

Filed Date: 10/28/14.

Accession Number: 20141028-5162.

Comments Due: 5 p.m. ET 11/18/14.

Docket Numbers: ER15-209-000.

Applicants: Northern States Power Company, a Minnesota corporation.

Description: § 205(d) rate filing per 35.13(a)(2)(iii): 2014-10-28 SEY, HILLS, StJms-NOC-TM-1 to be effective 12/31/2014.

Filed Date: 10/28/14.

Accession Number: 20141028-5165.

Comments Due: 5 p.m. ET 11/18/14.

Docket Numbers: ER15-210-000.

Applicants: New England Power Company.

Description: Notice of Cancellation of Interconnection Agreement with Centennial Island Hydroelectric Company of New England Power Company.

Filed Date: 10/28/14.

Accession Number: 20141028-5170.

Comments Due: 5 p.m. ET 11/18/14.

Docket Numbers: ER15-211-000.

Applicants: Southwest Power Pool, Inc.

Description: § 205(d) rate filing per 35.13(a)(2)(iii): 1977R5 Nemaha-Marshall Electric Cooperative NITSA and NOA to be effective 8/1/2014.

Filed Date: 10/29/14.

Accession Number: 20141029-5020.

Comments Due: 5 p.m. ET 11/19/14.

Docket Numbers: ER15-212-000.

Applicants: Southwest Power Pool, Inc.

Description: § 205(d) rate filing per 35.13(a)(2)(iii): 2900R1 Kansas Municipal Energy Agency NITSA NOA to be effective 8/1/2014.

Filed Date: 10/29/14.

Accession Number: 20141029-5037.

Comments Due: 5 p.m. ET 11/19/14.

Take notice that the Commission received the following electric securities filings:

Docket Numbers: ES13-46-001.

Applicants: Entergy Louisiana, LLC, Entergy Texas, Inc.

Description: Supplement to July 30, 2014 Application to amend existing FPA Section 204 authority of Entergy Louisiana, LLC.

Filed Date: 10/28/14.

Accession Number: 20141028-5086.

Comments Due: 5 p.m. ET 11/7/14.

Take notice that the Commission received the following land acquisition reports:

Docket Numbers: LA14-3-000.

Applicants: Alabama Electric Marketing, LLC, Astoria Generating Company, L.P., Big Sandy Peaker Plant, LLC, California Electric Marketing, LLC, Crete Energy Venture, LLC, CSOLAR IV South, LLC, CSOLAR IV West, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, and Wolf Hills Energy, LLC.

Description: Quarterly Land Acquisition Report of the Tenaska MBR Sellers.

Filed Date: 10/28/14.

Accession Number: 20141028-5171.

Comments Due: 5 p.m. ET 11/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2014.
Nathaniel J. Davis, Sr.,
Deputy Secretary.

[FR Doc. 2014-26256 Filed 11-4-14; 8:45 am]

BILLING CODE 6717-01-P